DEPARTMENT OF JUSTICE

[AAG/A Order No. 285-2002]

Privacy Act of 1974; System of Records

Pursuant to the Privacy Act of 1974 (5 U.S.C. 552a), notice is given that the Federal Bureau of Prisons (Bureau) proposes to make a minor change to its system of records entitled “Inmate Administrative Remedy Record System, JUSTICE/BOP-004.” This system, which was last published on June 18, 2002 (67 FR 41450), is now being modified and will become effective September 9, 2002.

The Bureau is retaining the majority of the previously published Notice and making only one minor technical change in one section. The section entitled “Retention and Disposal” is being amended to more accurately reflect current agency practice. The entire Notice is being re-published for the convenience of the public.

A description of the modified system is provided below.

Dated: August 29, 2002.
Robert F. Diegelman,
Acting Assistant Attorney General for Administration.

JUSTICE/BOP-004

SYSTEM NAME:

Inmate Administrative Remedy Record System.

SYSTEM LOCATION:

Records may be retained at the Central Office, Regional Offices, or at any of the Federal Bureau of Prisons (Bureau) facilities, or at any location operated by a contractor authorized to provide computer and/or correctional services to Bureau inmates. A list of Bureau facilities may be found at 28 CFR part 503 and on the Internet at http://www.bop.gov.

CATEGORIES OF INDIVIDUALS COVERED BY THE SYSTEM:

Current and former inmates, including pre-trial detainees, under the custody of the Attorney General and/or the Director of the Bureau of Prisons.

CATEGORIES OF RECORDS IN THE SYSTEM:

Records in this system include: (1) Inmate information including (a) name; (b) register number; (c) institution location; (d) current offense and sentence; (e) prior criminal record; (f) social background; (g) institution adjustment; (h) institution program data; (i) medical information; and (j) personal property data; (2) complaint information including copies of BOP-9's (institution level complaints), BOP-10's (Region appeals) and BOP-11's (Central Office appeals); and (3) processing information, including dates of filing and responses.

AUTHORITY FOR MAINTENANCE OF THE SYSTEM:

The system is established and maintained under authority of 18 U.S.C. 3621, 4042, 5003, and 28 CFR part 542.

PURPOSE OF THE SYSTEM:

The Bureau maintains records of the receipt, processing and responses to grievances filed by inmates pursuant to the Bureau's Administrative Remedy Program, which was established to provide inmates with a means to seek formal review of issues relating to conditions of their confinement. The related uses for which the Bureau maintains the system include (1) to provide a source of information for reconsideration or amendment of Bureau policy with regard to its operation; (2) to maintain a source of information for purposes of defending civil actions filed against the Bureau by inmates; and (3) to provide a source of information for statistical reports furnished to federal courts for the purpose of determining exhaustion of administrative remedies and the effectiveness of the Administrative Remedy Program in reducing the backlog of cases filed in federal court.

ROUTINE USES OF RECORDS MAINTAINED IN THE SYSTEM, INCLUDING CATEGORIES OF USERS AND THE PURPOSES OF SUCH USES:

Relevant data from this system will be disclosed as follows:

(a) To federal, state, local, foreign and international law enforcement agencies and officials for law enforcement purposes such as civil court actions, regulatory proceedings, responding to an emergency, inmate disciplinary proceedings; or for such law enforcement needs as prison administration, investigations, and possible criminal prosecutions.

(b) To contractors, grantees, experts, consultants, students, and others performing or working on a contract, service, grant, cooperative agreement, or other assignment for the federal government, when necessary to accomplish an agency function related to this system of records;

(c) To Members of Congress or staff acting upon the Member's behalf when the Member or staff requests the information on behalf of and at the request of the record subject;

(d) To the news media and the public pursuant to 28 CFR 50.2 unless it is determined that release of the specific information in the context of a particular case would constitute an unwarranted invasion of personal privacy;

(e) To the National Archives and Records Administration and General Services Administration in records management inspections conducted under the authority of 44 U.S.C. 2904 and 2906;

(f) In a proceeding before a court, grand jury, or administrative or regulatory body when records are determined by the Department of Justice to be arguably relevant to the proceeding;

(g) To a federal, state, or local licensing agency or association which requires information concerning the suitability or eligibility of an individual for a license or permit and;

(h) Pursuant to subsection (b)(3) of the Privacy Act, the Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING, AND DISPOSING OF RECORDS IN THE SYSTEM:

STORAGE:

Information maintained in the system is stored in electronic media via a configuration of personal computer, client/server, and mainframe systems architecture and may be accessed by only those staff with a need-to-know at all Bureau and contractor facilities. Some information may be stored in other computerized media, e.g., hard disk, floppy diskettes, magnetic tape, digital recordings, Compact Discs (CDs), and/or optical disks. Documentary records are maintained in manual file folders.

RETRIEVABILITY:

Documents are indexed by name and/or register number.

SAFEGUARDS:

Automated information is safeguarded in accordance with Department of Justice and Bureau of Prisons rules and policy governing automated information systems security and access. These safeguards include the maintenance of records and technical equipment in restricted areas, e.g. controlled access buildings, and the required use of proper passwords and user identification codes to access the system. Manual records are stored in a file room. All records in Bureau facilities are maintained in guarded buildings.

RETENTION AND DISPOSAL:

Case files, stored electronically and/or on paper, are maintained for a period of three (3) full years from the date the response is completed, at which time they are destroyed. Indexes are maintained for a period of twenty (20) years, at which time they are destroyed.

SYSTEM MANAGER(S) AND ADDRESS:

Assistant Director/General Counsel, Federal Bureau of Prisons; 320 First Street NW., Washington, DC 20534.

NOTIFICATION PROCEDURE:

Inquiries should be directed to the System Manager listed above.

RECORD ACCESS PROCEDURES:

All requests for records may be made by writing to the System Manager identified above, Federal Bureau of Prisons, 320 First Street NW., Washington, DC 20534. The envelope should be clearly marked “Privacy Act Request.” This system of records is exempted from access pursuant to 5 U.S.C. 552a(j). A determination as to the applicability of the exemption to a particular record(s) shall be made at the time a request for access is received.

CONTESTING RECORD PROCEDURES:

Same as above.

RECORD SOURCE CATEGORIES:

Records are generated by: Inmates; individuals covered by the system; Bureau staff; federal, state, local, tribal, and foreign law enforcement agencies; and federal/state probation and judicial offices.

SYSTEMS EXEMPTED FROM CERTAIN PROVISIONS OF THE ACT:

The Attorney General has exempted this system from subsections (c)(3) and (4), (d), (e)(2), (e)(3), (e)(4)(H), (e)(8), (f) and (g) of the Privacy Act pursuant to 5 U.S.C. 552a(j). Rules have been promulgated in accordance with the requirements of 5 U.S.C. 553(b), (c) and (e) and have been published in the Federal Register and codified at 28 CFR 16.97 (a) and (b).

[FR Doc. 02-22792 Filed 9-6-02; 8:45 am]

BILLING CODE 4410-05-P